NUCLEAR REGULATORY COMMISSION

[Docket Nos. 50-266 and 50-301]

Nuclear Management Company, LLC; Point Beach Nuclear Plant, Units 1 and 2; Environmental Assessment and Finding of No Significant Impact

The U.S. Nuclear Regulatory Commission (NRC) is considering issuance of an exemption from Title 10 of the Code of Federal Regulations (10 CFR) Part 50, Appendix R, Section IlI.G.1.a for Facility Operating License Nos. DPR-24 and DPR-27, issued to Nuclear Management Company, LLC (NMC), the licensee, for operation of the Point Beach Nuclear Plant (PBNP), Units 1 and 2, located in Manitowoc County, Wisconsin. Therefore, as required by 10 CFR 51.21, the NRC is issuing this environmental assessment and finding of no significant impact.

Environmental Assessment

Identification of the Proposed Action

The proposed action would exempt 10 CFR Part 50, Appendix R, Section III.G.1.a as it applies to the PBNP, Unit 1 auxiliary and turbine buildings; and the PBNP, Unit 2 auxiliary and turbine buildings, and the control building. The exemption requested is from the requirement that, “one train of systems necessary to achieve and maintain hot shutdown from either the control room or emergency control station(s) is free of fire damage,” as it applies to the PBNP, Unit 1 auxiliary and turbine buildings; the PBNP, Unit 2 auxiliary and turbine buildings, and the control building. Specifically, NMC has asked for a repair consisting of powering a dedicated air compressor from one of two pre-planned 480 volt power sources using pre-staged power cords and connecting the air compressor to nitrogen bottle manifolds on one or both reactor units using pre-staged pneumatic hose with quick connect fittings. The repair would be required no earlier than 8 hours into an event in which instrument air is disabled.

The proposed action is in accordance with the licensee's application dated March 5, 2004, as supplemented by letter dated November 8, 2004.

The Need for the Proposed Action

Appendix R, Section Ill.G.1.a of 10 CFR Part 50 requires that, “one train of systems necessary to achieve and maintain hot shutdown conditions from either the control room or emergency control station(s) is free of fire damage.” Appendix R, Section Ill.L.1 of 10 CFR Part 50 requires that an alternative or dedicated shutdown capability shall be able to, among other things, “(c) achieve and maintain hot standby conditions for a pressurized water reactor (PWR)”; and “(d) achieve cold shutdown conditions within 72 hours.” NRC Inspection Report 50-266/2003-007; 50-301/2003-007, dated February 4, 2004, documents a Non-Cited Violation of Appendix R, Section III.L.1.c, in that NMC, “failed to ensure, without the need for 'hot standby repairs,' adequate control air to the speed controllers for the charging pumps during a postulated fire requiring an alternative shutdown method.” The installed backup nitrogen gas bottle bank (for the charging pump speed controllers) meets the requirements of the regulation, with the exception that it is of limited capacity. This means that the hot shutdown conditions could not be maintained indefinitely while relying only on the installed bottle bank. However, the 8 to 14 hour capacity of the bottle banks is ample time to extinguish the fire, achieve stable plant conditions in hot shutdown, augment staff with personnel from the emergency response organization, and connect dedicated power cabling and hoses to the dedicated compressor using the furnished plugs and quick connect fittings (i.e., no tools required).

Because the bottle banks, hoses, cables, and compressor are all located in areas that would not be affected by the fires of concern, none would be damaged. Thus, the proposed exemption is fully consistent with the intent of the applicable sections of 10 CFR Part 50, Appendix R, and literal compliance is not necessary to achieve the underlying purpose of the rules.

Environmental Impacts of the Proposed Action

The NRC has completed its safety evaluation of the proposed action and concludes that pursuant to 10 CFR 50.12(a)(2)(ii), the level of fire safety provided is equivalent to the technical requirements of 10 CFR Part 50 Appendix R, Section IlI.G.1.a. As such, the requested exemption does not pose an undue risk to the health and safety of the public.

The details of the NRC staff's safety evaluation will be provided in the exemption that will be issued as part of the letter to the licensee approving the exemption to the regulation.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement for the Point Beach Nuclear Plant, Units 1 and 2.

Agencies and Persons Consulted

In accordance with its stated policy, on April 4, 2005, the NRC staff consulted with the Wisconsin State official, Jeffery Kitsembel of the Public Service Commission of Wisconsin, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 5, 2004, as supplemented by letter dated November 8, 2004. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 23rd day of May, 2005.
For the Nuclear Regulatory Commission.
Harold K. Chernoff,
Project Manager, Section 1, Project Directorate III, Division of Licensing Project Management, Office of Nuclear Reactor Regulation.

[FR Doc. E5-2688 Filed 5-26-05; 8:45 am]

BILLING CODE 7590-01-P